DEPARTMENT OF ENERGY

Federal Energy Regulatory Commission

Combined Notice of Filings #1

Take notice that the Commission received the following electric corporate filings:

Docket Numbers: EC26-51-000.

Applicants: SR Adamsville, LLC.

Description: Application for Authorization Under Section 203 of the Federal Power Act of SR Adamsville, LLC.

Filed Date: 1/21/26.

Accession Number: 20260121-5183.

Comment Date: 5 p.m. ET 2/11/26.

Docket Numbers: EC26-52-000.

Applicants: Blythe Mesa Solar II, LLC, IP Oberon, LLC, IP Oberon II, LLC, IP Energy Marketing, LLC, IP Aramis, LLC, IP Easley, LLC, IP Easley II, LLC, Pape, Nicholas, TPG Rise Idaho, L.P., Climate Adaptive Infrastructure LLC, Greenbelt Capital Partners MGP, LLC.

Description: Joint Application for Authorization Under Section 203 of the Federal Power Act of Blythe Mesa Solar II, LLC, et al.

Filed Date: 1/21/26.

Accession Number: 20260121-5186.

Comment Date: 5 p.m. ET 2/11/26.

Take notice that the Commission received the following Complaints and Compliance filings in EL Dockets:

Docket Numbers: EL26-42-000.

Applicants: Pacific Gas and Electric Company.

Description: Petition for Declaratory Order of Pacific Gas and Electric Company.

Filed Date: 1/16/26.

Accession Number: 20260116-5194.

Comment Date: 5 p.m. ET 2/17/26.

Take notice that the Commission received the following electric rate filings:

Docket Numbers: ER15-2254-007.

Applicants: Scrubgrass Generating Company, L.P.

Description: Compliance filing: Scrubgrass Reclamation Company, L.P. submits tariff filing per 35: Compliance Filing Revising Filed Tariff Records to be effective 11/15/2024.

Filed Date: 1/21/26.

Accession Number: 20260121-5168.

Comment Date: 5 p.m. ET 2/11/26.

Docket Numbers: ER17-556-011; ER17-104-013; ER17-105-013; ER15-1019-013; ER12-726-014; ER10-1362-012; ER12-2639-016; ER18-2158-008; ER23-2469-006; ER11-3959-013; ER21-2330-006; ER21-2331-006; ER21-2333-006; ER21-2336-006; ER22-2703-009.

Applicants: Pattern Energy Management Services LLC, Tecolote Wind LLC, Red Cloud Wind LLC, Duran Mesa LLC, Clines Corners Wind Farm LLC, Post Rock Wind Power Project, LLC, Lost Creek Wind, LLC, Stillwater Wind, LLC, Ocotillo Express LLC, Hatchet Ridge Wind, LLC, Spring Valley Wind LLC, Fowler Ridge IV Wind Farm LLC, Broadview Energy JN, LLC, Broadview Energy KW, LLC, Grady Wind Energy Center, LLC.

Description: Notice of Change in Status of Grady Wind Energy Center, LLC, et al.

Filed Date: 1/16/26.

Accession Number: 20260116-5199.

Comment Date: 5 p.m. ET 2/6/26.

Docket Numbers: ER22-1839-003.

Applicants: Panther Creek Power Operating, LLC.

Description: Compliance filing: Compliance Filing Revising Filed Tariff Records to be effective 1/21/2026.

Filed Date: 1/21/26.

Accession Number: 20260121-5160.

Comment Date: 5 p.m. ET 2/11/26.

Docket Numbers: ER26-1095-000.

Applicants: Public Service Company of Colorado.

Description: § 205(d) Rate Filing: 2026-01-21—SPS Transmission Incentive Filing to be effective 3/23/2026.

Filed Date: 1/21/26.

Accession Number: 20260121-5144.

Comment Date: 5 p.m. ET 2/11/26.

Docket Numbers: ER26-1096-000.

Applicants: PJM Interconnection, L.L.C.

Description: § 205(d) Rate Filing: GIA, SA No. 7805; AG1-135 and Notice of Cancellation of SA Nos. 6919 and 6920 to be effective 12/23/2025.

Filed Date: 1/22/26.

Accession Number: 20260122-5054.

Comment Date: 5 p.m. ET 2/12/26.

Docket Numbers: ER26-1097-000.

Applicants: Southwest Power Pool, Inc.

Description: § 205(d) Rate Filing: Non-Substantive Revisions to Section 6.2 of the SPP Bylaws to be effective 4/1/2026.

Filed Date: 1/22/26.

Accession Number: 20260122-5061.

Comment Date: 5 p.m. ET 2/12/26.

Docket Numbers: ER26-1098-000.

Applicants: PJM Interconnection, L.L.C.

Description: § 205(d) Rate Filing: GIA SA No. 7804 & Cancellation of IISA SA No. 6979 & ICSA SA No. 6986; AG1-153 to be effective 12/23/2025.

Filed Date: 1/22/26.

Accession Number: 20260122-5070.

Comment Date: 5 p.m. ET 2/12/26.

Docket Numbers: ER26-1099-000.

Applicants: PJM Interconnection, L.L.C.

Description: § 205(d) Rate Filing: Ministerial Clean-Up Revisions to PJM Tariff and Operating Agreement to be effective 6/1/2023.

Filed Date: 1/22/26.

Accession Number: 20260122-5086.

Comment Date: 5 p.m. ET 2/12/26.

Docket Numbers: ER26-1100-000.

Applicants: PacifiCorp.

Description: Tariff Amendment: Notice of Termination (RS No. 783) to be effective 3/26/2026.

Filed Date: 1/22/26.

Accession Number: 20260122-5093.

Comment Date: 5 p.m. ET 2/12/26.

Docket Numbers: ER26-1101-000.

Applicants: Arizona Public Service Company.

Description: § 205(d) Rate Filing: Service Agreement No. 173, NITS w/APS M&T Amendment No. 1 to be effective 3/24/2026.

Filed Date: 1/22/26.

Accession Number: 20260122-5097.

Comment Date: 5 p.m. ET 2/12/26.

Docket Numbers: ER26-1102-000.

Applicants: PJM Interconnection, L.L.C.

Description: § 205(d) Rate Filing: Amendment to GIA, SA No. 7349; AF1-084 to be effective 3/24/2026.

Filed Date: 1/22/26.

Accession Number: 20260122-5134.

Comment Date: 5 p.m. ET 2/12/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 22, 2026.
Carlos D. Clay,
Deputy Secretary.

[FR Doc. 2026-01584 Filed 1-26-26; 8:45 am]

BILLING CODE 6717-01-P